DEPARTMENT OF HEALTH AND HUMAN SERVICES

Health Resources and Services Administration

HIV/AIDS Bureau Policy Notice 99-02; Correction

AGENCY: Health Resources and Services Administration, HHS

ACTION: Correction of policy effective date.

SUMMARY: The Health Resources and Services Administration published a notice in the Federal Register of December 6, 2006, soliciting comments on a proposed amendment to Policy Notice 99-02 which places a cumulative lifetime period of 24 months on short-term and emergency housing assistance under Title XXVI of the Public Health Service Act, as amended by the Ryan White HIV/AIDS Treatment Modernization Act of 2006. The amendment also specifies a requirement that the need for such assistance must be certified or documented by a case manager, social worker, or other licensed health care professional(s). HRSA received over 150 substantive comments from consumers and numerous organizations around the country in response to the December 6, 2006, notice.

Correction

In the Federal Register of December 6, 2006, FR Doc. E6-20556, on page 70781, in the second column, first paragraph, last sentence:

Remove the following text: “This policy becomes effective March 1, 2007” and insert the following text: “In order for HRSA to consider all public comments, it will delay the implementation of the proposed policy amendment until further notice.”

Dated: February 22, 2007.
Elizabeth M. Duke,
Administrator.

[FR Doc. 07-882 Filed 2-22-07; 2:09 pm]

BILLING CODE 4165-15-P